DEPARTMENT OF DEFENSE

Office of the Secretary

[Docket No. DoD-2009-OS-0101]

Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by September 15, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) Military Personnel Policy/Armed Forces Chaplains Board, ATTN: Jonathan M. Frusti, 4000 Defense Pentagon, Washington, DC 20301-4000 or call at (703) 697-9015.

Title, Associated Form, and OMB Control Number: 0704-0190, Appointment of Chaplains for the Military Services, DD Form 2088.

Needs and Uses: This information collection will provide certification that a Religious Ministry Professional is professionally qualified to become a chaplain.

Affected Public: Not-for-profit institutions.

Annual Burden Hours: 750 hours.

Number of Respondents: 200.

Responses per Respondent: 5.

Average Burden per Response: 45 minutes.

Frequency: On Occasion; Annually.

SUPPLEMENTARY INFORMATION:

Summary of Information Collection

The DD 2088 is used to verify the professional and ecclesiastical qualifications of Religious Ministry Professionals for initial appointment or chaplains change of career status appointments as chaplains in the Military Service. This form is an essential element of a chaplain's professional qualifications and will become a part of a chaplain's military personnel record.

DoD listed endorsing agents utilize the form to endorse military chaplains representing their organizations.

Dated: May 28, 2009.
Patricia L. Toppings,
OSD Federal Register Liaison Officer, Department of Defense.

[FR Doc. E9-17064 Filed 7-16-09; 8:45 am]

BILLING CODE 5001-06-P